DEPARTMENT OF ENERGY

Federal Energy Regulatory Commission

Combined Notice of Filings #1

Take notice that the Commission received the following exempt wholesale generator filings:

Docket Numbers: EG20-19-000.

Applicants: Sun Streams, LLC.

Description: Notice of Self-Certification of Exempt Wholesale Generator Status.

Filed Date: 10/30/19.

Accession Number: 20191030-5084.

Comments Due: 5 p.m. ET 11/20/19.

Take notice that the Commission received the following electric rate filings:

Docket Numbers: ER17-194-003.

Applicants: Hartree Partners, LP.

Description: Notice of Change in Status and Updated Market Power Analysis of Hartree Partners, LLC.

Filed Date: 10/31/19.

Accession Number: 20191031-5296.

Comments Due: 5 p.m. ET 11/21/19.

Docket Numbers: ER18-1418-002.

Applicants: Evergy Kansas Central, Inc.

Description: Compliance filing: Compliance Filing, Section 28.5, Loss Adjustments to be effective 6/28/2018.

Filed Date: 10/31/19.

Accession Number: 20191031-5265.

Comments Due: 5 p.m. ET 11/21/19.

Docket Numbers: ER20-269-000.

Applicants: Southwest Power Pool, Inc.

Description: § 205(d) Rate Filing: 3330R1 City of Nixa, Missouri NITSA NOAs to be effective 10/1/2019.

Filed Date: 10/31/19.

Accession Number: 20191031-5226.

Comments Due: 5 p.m. ET 11/21/19.

Docket Numbers: ER20-270-000.

Applicants: Dynegy Oakland, LLC.

Description: § 205(d) Rate Filing: Annual Reliability Must Run Agreement and Schedule F Informational Filings to be effective 1/1/2020.

Filed Date: 10/31/19.

Accession Number: 20191031-5228.

Comments Due: 5 p.m. ET 11/21/19.

Docket Numbers: ER20-271-000.

Applicants: PJM Interconnection, L.L.C.

Description: § 205(d) Rate Filing: Rev to the OATT and RAA re Price Responsive Demand Rules to be effective 12/30/2019.

Filed Date: 10/31/19.

Accession Number: 20191031-5231.

Comments Due: 5 p.m. ET 11/21/19.

Docket Numbers: ER20-272-000.

Applicants: AEP Texas Inc.

Description: § 205(d) Rate Filing: AEPTX-Taygete Energy Project II 1st Amend and Restated GIA to be effective 10/24/2019.

Filed Date: 10/31/19.

Accession Number: 20191031-5256.

Comments Due: 5 p.m. ET 11/21/19.

Docket Numbers: ER20-273-000.

Applicants: California Independent System Operator Corporation.

Description: § 205(d) Rate Filing: 2019-10-31 Southern California Maximum Gas Constraint Amendment to be effective 12/31/2019.

Filed Date: 10/31/19.

Accession Number: 20191031-5258.

Comments Due: 5 p.m. ET 11/21/19.

Docket Numbers: ER20-274-000.

Applicants: AEP Texas Inc.

Description: § 205(d) Rate Filing: AEPTX-Blackjack Creek Wind Farm GIA to be effective 10/24/2019.

Filed Date: 10/31/19.

Accession Number: 20191031-5260.

Comments Due: 5 p.m. ET 11/21/19.

Docket Numbers: ER20-275-000.

Applicants: Consolidated Edison Company of New York, Inc.

Description: § 205(d) Rate Filing: PASNY VDER Tariff 10-2019 to be effective 11/1/2019.

Filed Date: 11/1/19.

Accession Number: 20191101-5000.

Comments Due: 5 p.m. ET 11/22/19.

Docket Numbers: ER20-276-000.

Applicants: Midcontinent Independent System Operator, Inc.

Description: § 205(d) Rate Filing: 2019-11-01_Attachment O Prairie Power, Inc. Filing to be effective 1/1/2020.

Filed Date: 11/1/19.

Accession Number: 20191101-5045.

Comments Due: 5 p.m. ET 11/22/19.

Docket Numbers: ER20-277-000.

Applicants: Southwestern Public Service Company.

Description: § 205(d) Rate Filing: SPS FERC Production Depreciation Rates Update to be effective 1/1/2020.

Filed Date: 11/1/19.

Accession Number: 20191101-5075.

Comments Due: 5 p.m. ET 11/22/19.

Docket Numbers: ER20-278-000.

Applicants: Avista Corporation.

Description: Tariff Cancellation: Avista Corp Cancellation Rate Sched CG2 Order 1000 Agreement to be effective 12/31/2019.

Filed Date: 11/1/19.

Accession Number: 20191101-5098.

Comments Due: 5 p.m. ET 11/22/19.

Docket Numbers: ER20-279-000.

Applicants: Arizona Public Service Company.

Description: Tariff Cancellation: Service Agreement No. 318 Cancellation to be effective 1/1/2020.

Filed Date: 11/1/19.

Accession Number: 20191101-5135.

Comments Due: 5 p.m. ET 11/22/19.

Docket Numbers: ER20-280-000.

Applicants: Skookumchuck Wind Energy Project, LLC.

Description: Baseline eTariff Filing: Application for MBR Authority and Initial Baseline Tariff Filing to be effective 12/1/2019.

Filed Date: 11/1/19.

Accession Number: 20191101-5141.

Comments Due: 5 p.m. ET 11/22/19.

Docket Numbers: ER20-281-000.

Applicants: DATC Path 15, LLC.

Description: § 205(d) Rate Filing: Revised Appendix I 2020 to be effective 1/1/2020.

Filed Date: 11/1/19.

Accession Number: 20191101-5145.

Comments Due: 5 p.m. ET 11/22/19.

Docket Numbers: ER20-282-000.

Applicants: FPL Energy Illinois Wind, LLC.

Description: Baseline eTariff Filing: Reactive Power Compensation Filing to be effective 12/31/2019.

Filed Date: 11/1/19.

Accession Number: 20191101-5151.

Comments Due: 5 p.m. ET 11/22/19.

Docket Numbers: ER20-283-000.

Applicants: Heartland Generation Ltd.

Description: § 205(d) Rate Filing: Notice of Succession to Market Based Rate Tariff and Notice of Change in Status to be effective 12/30/2019.

Filed Date: 11/1/19.

Accession Number: 20191101-5173.

Comments Due: 5 p.m. ET 11/22/19.

Docket Numbers: ER20-284-000.

Applicants: Basin Electric Power Cooperative.

Description: § 205(d) Rate Filing: Basin Electric Submission of Revised Rate Schedule A to be effective 12/31/9998.

Filed Date: 11/1/19.

Accession Number: 20191101-5175.

Comments Due: 5 p.m. ET 11/22/19.

Docket Numbers: ER20-285-000.

Applicants: PJM Interconnection, L.L.C.

Description: Tariff Cancellation: Notice of Cancellation of WMPA SA No. 4372; Queue No. AB1-035 to be effective 11/12/2019.

Filed Date: 11/1/19.

Accession Number: 20191101-5196.

Comments Due: 5 p.m. ET 11/22/19.

Docket Numbers: ER20-286-000.

Applicants: Puget Sound Energy, Inc.

Description: Tariff Cancellation: ColumbiaGrid Cancellation Filing to be effective 12/31/2019.

Filed Date: 11/1/19.

Accession Number: 20191101-5208.

Comments Due: 5 p.m. ET 11/22/19.

Docket Numbers: ER20-287-000.

Applicants: CPV Fairview, LLC.

Description: § 205(d) Rate Filing: CPV Fairview, LLC—Reactive Power Rate Schedule to be effective 12/1/2019.

Filed Date: 11/1/19.

Accession Number: 20191101-5220.

Comments Due: 5 p.m. ET 11/22/19.

Docket Numbers: ER20-288-000.

Applicants: Florida Power & Light Company.

Description: § 205(d) Rate Filing: FPL and Landfill Energy Systems, LLC Service Agreement for Firm P-to-P TS to be effective 11/2/2019.

Filed Date: 11/1/19.

Accession Number: 20191101-5222.

Comments Due: 5 p.m. ET 11/22/19.

Docket Numbers: ER20-289-000.

Applicants: Appalachian Power Company, Ohio Power Company, AEP Ohio Transmission Company, Inc., PJM Interconnection, L.L.C.

Description: § 205(d) Rate Filing: AEP submits ILDSAs, SA Nos. 1252, 1336, 1677, 5 Facilities Agreement and an ECSA to be effective 12/31/2019.

Filed Date: 11/1/19.

Accession Number: 20191101-5223.

Comments Due: 5 p.m. ET 11/22/19.

Docket Numbers: ER20-290-000.

Applicants: Southwest Power Pool, Inc.

Description: § 205(d) Rate Filing: Revisions to Revise Treatment of Schedule 1 Point-To-Point Revenue to be effective 1/1/2020.

Filed Date: 11/1/19.

Accession Number: 20191101-5246.

Comments Due: 5 p.m. ET 11/22/19.

Docket Numbers: ER20-291-000.

Applicants: PJM Interconnection, L.L.C.

Description: Tariff Cancellation: Notice of Cancellation of WMPA/SA No. 4373; Queue No. AB1-036 to be effective 11/12/2019.

Filed Date: 11/1/19.

Accession Number: 20191101-5247.

Comments Due: 5 p.m. ET 11/22/19.

Docket Numbers: ER20-292-000.

Applicants: Southwest Power Pool, Inc.

Description: § 205(d) Rate Filing: Kansas City Board of Public Utilities Formula Rate to be effective 1/1/2020.

Filed Date: 11/1/19.

Accession Number: 20191101-5248.

Comments Due: 5 p.m. ET 11/22/19.

Take notice that the Commission received the following electric securities filings:

Docket Numbers: ES20-7-000.

Applicants: Portland General Electric Company.

Description: Application Under Section 204 of the Federal Power Act for Authorization to Issue Securities of Portland General Electric Company.

Filed Date: 10/31/19.

Accession Number: 20191031-5291.

Comments Due: 5 p.m. ET 11/21/19.

Take notice that the Commission received the following qualifying facility filings:

Docket Numbers: QF20-182-000.

Applicants: Eco Green Generation LLC.

Description: Form 556 of Eco Green Generation LLC [Clean Power #7].

Filed Date: 10/31/2019.

Accession Number: 20191031-5168.

Comment Date: Non-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (Toll Free). For Tty, Call (202) 502-8659.

Dated: November 1, 2019.
Nathaniel J. Davis, Sr.,
Deputy Secretary.

[FR Doc. 2019-24317 Filed 11-6-19; 8:45 am]

BILLING CODE 6717-01-P